Title 3—

The President

Proclamation 8205 of November 16, 2007

National Farm-City Week, 2007

By the President of the United States of America

A Proclamation

Our Nation's agricultural industry contributes greatly to the strength of our economy. During National Farm-City Week, we honor the hard work and dedication of America's farmers and ranchers and we highlight the important urban and rural partnerships that help keep our country strong and prosperous.

America's farmers and ranchers embody an important part of our national heritage. As stewards of our land, our farmers and ranchers protect our soil, water, and wildlife habitat. With hard work, discipline, and ingenuity, they produce a safe and healthy food supply. Farmers and ranchers work closely with processors, transporters, and retailers, moving agricultural products from the farm to the homes of Americans and people around the world. My Administration is working to open new markets for American farm products and to encourage free and fair trade. By expanding opportunities for American farmers and ranchers, we can help keep our economy strong and growing.

As we celebrate Farm-City Week, we recognize the many contributions of America's farmers and ranchers and all those who work to strengthen the ties between our rural and urban communities. Our Nation is blessed by those who grow, harvest, and deliver these products, and we honor their dedication to feeding our country and the world.

NOW, THEREFORE, I, GEORGE W. BUSH, President of the United States of America, by virtue of the authority vested in me by the Constitution and the laws of the United States, do hereby proclaim November 16 through November 22, 2007, as National Farm-City Week. I encourage all Americans to recognize the many accomplishments of our farmers and ranchers, and all those who contribute to the strength of America's agricultural industry.

IN WITNESS WHEREOF, I have hereunto set my hand this sixteenth day of November, in the year of our Lord two thousand seven, and of the Independence of the United States of America the two hundred and thirty-second.

[FR Doc. 07-5792

Filed 11-19-07; 8:47 am]

Billing code 3195-01-P